DEPARTMENT OF TRANSPORTATION

Federal Aviation Administration

[Summary Notice No. PE-2002-34]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC, on April 26, 2002.
Donald P. Byrne,
Assistant Chief Counsel for Regulations.

Dispositions of Petitions

Docket No.: FAA-2002-11992.

Petitioner: Kent State University Flight Operations.

Section of 14 CFR Affected: 14 CFR 135.251, 135.255, and 135.353, and appendixes I and J to part 121.

Description of Relief Sought/Disposition: To permit Kent State University to conduct local sightseeing flights in the vicinity of Stow, Ohio for its community Aviation Day on September 8, 2002, for compensation or hire, without complying with certain anti-drug and alcohol misuse prevention requirements of part 135.

Grant, 04/15/2002, Exemption No. 7756

Docket No.: FAA-2002-11887.

Petitioner: American Airlines Flight Academy.

Section of 14 CFR Affected: 14 CFR 121.440(a) and SFAR 58, paragraph 6(b)(3)(ii)(A).

Description of Relief Sought/Disposition: To permit American Airlines to meet line check requirements using an alternative line check program.

Grant, 04/16/2002, Exemption No. 5950D (Previously Docket 27712)

Docket No.: FAA-2002-11723.

Petitioner: United States Coast Guard.

Section of 14 CFR Affected: 14 CFR 91.117(b) and (c), 91.119(c), 91.159(a), and 91.209(a).

Description of Relief Sought/Disposition: To permit the United States Coast Guard to conduct air operations in support of drug law enforcement and drug traffic interdiction without meeting certain part 91 provisions.

Grant, 04/16/2002, Exemption No. 5231F (Previously Docket 25177)

Docket No.: FAA-2002-12010.

Petitioner: Taunton Airport Association, Inc.

Section of 14 CFR Affected: 14 CFR 135.251, 135.255, and 135.353, and appendixes I and J to part 121.

Description of Relief Sought/Disposition: To permit Taunton Airport Association to conduct local sightseeing flights at the Taunton Municipal Airport for it's annual charity fundraising event on October 26, 2002, for compensation or hire, without complying with certain anti-drug and alcohol misuse prevention requirements of part 135.

Grant, 04/15/2002, Exemption No. 7758

Docket No.: FAA-2002-11763.

Petitioner: Western North Carolina Air Museum.

Section of 14 CFR Affected: 14 CFR 135.251, 135.255, and 135.353, and appendixes I and J to part 121.

Description of Relief Sought/Disposition: To permit Western North Carolina Air Museum to conduct local sightseeing flights at Hendersonville, North Carolina airport for an Air Fair on May 4-5, 2002, and August 30-31, and September 1-2, 2002, for compensation or hire, without complying with certain anti-drug and alcohol misuse prevention requirements of part 135.

Grant, 04/15/2002, Exemption No. 7757

Docket No.: FAA-2002-11961.

Petitioner: EK Aviation.

Section of 14 CFR Affected: 14 CFR 135.251, 135.255, and 135.353, and appendixes I and J to part 121.

Description of Relief Sought/Disposition: To permit EK Aviation to conduct local sightseeing flights at Sidney and Urbana, Ohio for their Airfairs on June 29 and July 4, 2002, for compensation or hire, without complying with certain anti-drug and alcohol misuse prevention requirements of part 135.

Grant, 04/11/2002, Exemption No. 7752

Docket No.: FAA-2002-11570.

Petitioner: Sky Helicopters, Inc.

Section of 14 CFR Affected: 14 CFR 135.143(c)(2).

Description of Relief Sought/Disposition: To permit Sky Helicopters to operate certain aircraft under part 135 without a TSO-C112 (Mode S) transponder installed on those aircraft.

Grant, 04/15/2002, Exemption No. 6430C (Previously Docket No. 28499)

Docket No.: FAA-2002-12097.

Petitioner: Mirabella Yachts, Inc.

Section of 14 CFR Affected: 14 CFR 135.143(c)(2).

Description of Relief Sought/Disposition: To permit Mirabella to operate certain aircraft under part 135 without a TSO-C112 (Mode S) transponder installed on those aircraft.

Grant, 04/16/2002, Exemption No. 7178A (Previously Docket No. 29973)

Docket No.: FAA-2002-11935.

Petitioner: Challenged Child and Friends, Inc.

Section of 14 CFR Affected: 14 CFR 135.251, 135.255, and 135.353, and appendixes I and J to part 121.

Description of Relief Sought/Disposition: To permit Challenged Child to conduct charitable airlifts for an event on April 27, 2002, for compensation or hire, without complying with certain anti-drug and alcohol misuse prevention requirements of part 135.

Grant, 04/19/2002, Exemption No. 7180A (Previously Docket No. 29962)

Docket No.: FAA-2001-8871.

Petitioner: Mentone Flying Club, Inc.

Section of 14 CFR Affected: 14 CFR 135.251, 135.255, and 135.353, and appendixes I and J to part 121.

Description of Relief Sought/Disposition: To permit Mentone to conduct local sightseeing flights at Fulton County Airport for the Round Barn Festival charitable event on June 8, 2002, for compensation or hire, without complying with certain anti-drug and alcohol requirements of part 135.

Grant, 04/16/2002, Exemption No. 7759

Docket No.: FAA-2002-11939.

Petitioner: Civil Air Patrol.

Section of 14 CFR Affected: 14 CFR subpart F of part 91.

Description of Relief Sought/Disposition: To permit Civil Air Patrol to operate small aircraft under subpart F of part 91 and receive limited reimbursement for certain flights within the scope of and incidental to Civil Air Patrol's corporate purposes and US Air Force Auxiliary status.

Grant, 04/24/2002, Exemption No. 6485C (Previously Docket 28454)

Docket No.: FAA-2002-11937.

Petitioner: Butler Aircraft Company.

Section of 14 CFR Affected: 14 CFR 91.611.

Description of Relief Sought/Disposition: To permit Butler to conduct ferry flights with one engine inoperative on McDonnell Douglas DC-6 and DC-7 airplanes without obtaining a special flight permit for each flight.

Grant, 04/24/2002, Exemption No. 5204F (Previously Docket 22822)

Docket No.: FAA-2002-12174.

Petitioner: Hageland Aviation Services, Inc.

Section of 14 CFR Affected: 14 CFR 135.143(c)(2).

Description of Relief Sought/Disposition: To permit Hageland to operate certain aircraft under part 135 without a TSO-C112 (Mode S) transponder installed on those aircraft.

Grant, 04/25/2002, Exemption No. 7183A (Previously Docket 29965)

[FR Doc. 02-10948 Filed 5-1-02; 8:45 am]

BILLING CODE 4910-13-P